FEDERAL COMMUNICATIONS COMMISSION

Federal Advisory Committee Act; Communications Security, Reliability, and Interoperability Council

AGENCY: Federal Communications Commission.

ACTION: Notice.

SUMMARY: In accordance with the Federal Advisory Committee Act, this notice advises interested persons that the Federal Communications Commission's (FCC or Commission) Communications Security, Reliability, and Interoperability Council (CSRIC) IV will hold its second meeting. At the meeting, each of the Working Groups will present an update on topics including emergency warning systems, 9-1-1 location accuracy, distributed denial-of-service (DDoS), and cybersecurity best practices.

DATES: December 4, 2013.

ADDRESSES: Federal Communications Commission, Room TW-C305 (Commission Meeting Room), 445 12th Street SW., Washington, DC 20554.

FOR FURTHER INFORMATION CONTACT: Jeffery Goldthorp, Designated Federal Officer, (202) 418-1096 (voice) or jeffery.goldthorp@fcc.gov (email); or Lauren Kravetz, Deputy Designated Federal Officer, (202) 418-7944 (voice) or lauren.kravetz@fcc.gov (email).

SUPPLEMENTARY INFORMATION: The meeting will be held on December 4, 2013, from 1:00 p.m. to 5:00 p.m. in the Commission Meeting Room of the Federal Communications Commission, Room TW-C305, 445 12th Street SW., Washington, DC 20554.

The CSRIC is a Federal Advisory Committee that will provide recommendations to the FCC regarding best practices and actions the FCC can take to ensure the security, reliability, and interoperability of communications systems. On March 19, 2013, the FCC, pursuant to the Federal Advisory Committee Act, renewed the charter for the CSRIC for a period of two years through March 18, 2015. Each of the ten Working Groups of this most recently-chartered CSRIC is described in more detail at http://www.fcc.gov/encyclopedia/communications-security-reliability-and-interoperability-council-iv.

The meeting on December 4, 2013, will be the second meeting of the CSRIC under the current charter. The FCC will attempt to accommodate as many attendees as possible; however, admittance will be limited to seating availability. The Commission will provide audio and/or video coverage of the meeting over the Internet from the FCC's Web page at http://www.fcc.gov/live. The public may submit written comments before the meeting to Jeffery Goldthorp, CSRIC Designated Federal Officer, by email to jeffery.goldthorp@fcc.gov or U.S. Postal Service Mail to Jeffery Goldthorp, Associate Bureau Chief, Public Safety and Homeland Security Bureau, Federal Communications Commission, 445 12th Street SW., Room 7-A325, Washington, DC 20554.

Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted, but may be impossible to fill.

Federal Communications Commission.
Marlene H. Dortch,
Secretary.

[FR Doc. 2013-27844 Filed 11-20-13; 8:45 am]

BILLING CODE 6712-01-P